DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 23, 2010.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington DC or at http://regulations.gov.

This notice of receipt of applications for special permit is published in accordance with Part 107 of the Federal hazardous materials transportation law (49 U.S.C. 5117(b); 49 CFR 1.53(b)).

Issued in Washington, DC, on May 17, 2010.
Delmer F. Billings,
Director, Office of Hazardous Materials, Special Permits and Approvals.

New Special Permits
Application No. | Docket No. | Applicant | Regulation(s) affected | Nature of special permits thereof
14995-N |  | Grasshopper Aviation, LLC, Wasilla, AK | 49 CFR 172.101 Column (9B) | To authorize the transportation in commerce of certain Class I explosive materials which are forbidden for transportation by air, to be transported by cargo aircraft within the State of Alaska when other means of transportation are impracticable or not available (mode 4).
14999-N |  | Classic Helicopters Limited, L.C., Woods Cross, UT | 49 CFR 172.101 Column (9B), 172.204(c)(3), 173.27(b)(2), 175.30(a)(1), 172.200, 172.300, 172.400 and 175.75 | To authorize the transportation in commerce of certain hazardous materials by Part 133 Rotorcraft External Load Operations, attached to or suspended from an aircraft, in remote areas of the U.S. without meeting certain hazard communication and stowage requirements (mode 4).
15000-N |  | FIBA Technologies, Inc., Millbury, MA | 49 CFR 180.205(f) and (g) 180.209(a) | To authorize the transportation in commerce of certain hazardous materials in DOT Specification 3AL cylinders manufactured from aluminum alloy 6061-T6 that are requalified every ten years rather than every five years using 100% ultrasonic examination (modes 1, 2, 3,4, 5).
15001-N |  | Worthington Cylinder Corporation, Columbus, OH | 49 CFR 178.65(i) and 172.202(a)(1) and (a)(2) | To authorize the transportation in commerce of DOT Specification 39 cylinders without meeting certain marking requirements by private or contract motor carrier (mode 1).
15002-N |  | StarLite Propane Gas Corporation, Bay Shore, NY | 49 CFR 172.400 and 173.29 | To authorize the transportation in commerce of DOT-specification cylinders containing propane without the required labels provided each transport vehicle is marked and placarded (mode 1).
15003-N |  | Gebauer Company, Cleveland, OH | 49 CFR 173.306(a)(1) | To authorize the manufacture, marking, sale and use of a DOT 2P inner metal receptacle with a 4.7-ounce capacity for the transportation in commerce of ethyl chloride as a consumer commodity (modes 1, 2, 3).
15004-N |  | Zotos International, Inc., Geneva, NY | 49 CFR 173.306(a)(3)(v) | To authorize the transportation in commerce of DOT Specification 2P non-refillable aluminum inside containers which have been subject to an automated pressure test on the line in lieu of the hot water bath test (mode 1).

[FR Doc. 2010-12346 Filed 5-21-10; 8:45 am]

BILLING CODE 4909-60-M